DEPARTMENT OF THE INTERIOR

Bureau of Land Management

[CA-360-04-2822-JS]

Notice of Emergency Temporary Closure of Certain Public Lands, to Motorized Vehicles and Other Uses, in Shasta and Trinity Counties, CA, Under Burned Area Emergency Stabilization and Restoration

AGENCY: Bureau of Land Management, Interior.

ACTION: Notice of temporary closure.

SUMMARY: The Bureau of Land Management (BLM) Redding Field Office is temporarily closing portions of public lands to motorized and mechanized vehicle use, and prohibiting or restricting certain other uses on public lands managed by the Redding Field Office. This closure is needed to protect public health and safety, cultural and natural resources and stabilization treatments as recommended in the Department of the Interior's Burned Area Emergency Stabilization and Rehabilitation (BAER) Plan for the French Fire in Shasta and Trinity counties.

DATES: This closure is in effect from September 13, 2004 until December 31, 2005. The closure may be lifted sooner if BLM determines that road repairs, revegetation, and stabilization efforts have reduce safety hazards and significant resource concerns.

ADDRESSES: Copies of and map of the closed areas can be obtained at the BLM, Redding Field Office, 355 Hemsted Drive, Redding, CA 96002, (530) 224-2100. BLM will also announce the closure through local media outlets by posting this notice with a map of the closed areas at key locations that provide access the closure area.

FOR FURTHER INFORMATION CONTACT: Steven W. Anderson, Field Manager, Bureau of Land Management, Redding Field Office, 355 Hemsted Drive, Redding, CA 96002 or Francis Berg, BLM, phone (530) 224-2100 or by e-mail at wkuntz@ca.blm.gov.

SUPPLEMENTARY INFORMATION: The public lands affected by the French Fire and addressed in the BAER Plan are closed to travel by horseback, motorized and mechanized vehicle use (i.e., including trucks, sport utility vehicles, all-terrain vehicles, cars, motorcycles, mountain bikes) except for: Authorized access to private lands and mining claims, use by fire and law enforcement vehicles, emergency activities and other authorized uses. The authorities for this closure and restriction order are 43 CFR 8364.1 and 9268.3(d).

The following paragraphs explain the background for BLM's management of the closed lands, and the reason for the closure and restriction.

These lands and roads are temporarily closed to vehicles to protect public health and safety from rockslides, timber deadfall and slope failure due to loss of vegetation and falling trees in the areas affected by the fire, and to allow for post-fire road reconstruction and maintenance. The treat of increased vehicle use may increase due to the lack of vegetation and other physical barriers that previously blocked access. There is also the increased potential for the introduction of invasive/non-native plants in the burdened areas from motorized and mechanized vehicles, and the potential for collection or lotting of cultural and historical artifacts now revealed due to the loss of vegetation. This closure and restriction order applies to approximately 7,153 acres of public lands affected by the French Fire of August 2004.

Closure Order

Section 1. Closed Lands

This closure affects all of the public lands and roads, subject to the exceptions in Section 2, located within the French Fire perimeter. Public lands in the following described tracts are closed to travel by horseback, motorized and mechanized vehicles:

T. 33N., R6W, sections 18, and 19, M.D.M.

T. 33N., R7W, sections 4, 6, 7, 8, 9, 10, 13, 14, 15, 16, 17, 18, 19, 20, 22, 24, 25, 26, 28, and 32, M.D.M.

T. 33N., R8W, sections 12, 13, and 24, M.D.M.

A total of approximately 7,153 acres

Section 2. Exceptions to Closures and Restriction Orders

These closures and restrictions do not apply to the following roads: Trinity Mountain Road, Hoadley Peak Road, North County Line Road, Highland Ridge Road, Tom Green Mine Road, Lewiston Turnpike and French Gulch Road. The closures and restrictions do not apply to authorized emergency vehicles, rescue vehicles, BLM operation and maintenance vehicles, resource management and recovery activities, use by fire and law enforcement vehicles. In addition, access to mining claims and private property by property owners may be authorized by the BLM Field Manager or the acting Field Manager. Nothing in this closure is intended to affect legal hunting as consistent with California Department of Fish and Game regulations.

Section 3. Penalties

Under section 303(a) of the Federal Land Policy and Management Act of 1976 (43 U.S.C. 1733(a) and 43 CFR 8360-7, if you violate these closures or restrictions on public lands within the boundaries established, you may be tried before a United States Magistrate and fined no more than $1,000 or imprisoned for no more than 12 months, or both. Such violations may also be subject to the enhanced fines provided for by 18 U.S.C. 3571.

Section 4. Conditions for Ending Closures and Restrictions

Soil stabilization, revegetation, road repairs, and treatments to control invasive species will be considered successful, and the area may be returned to preclosure travel designations and opened sooner than December 31, 2005, if and when the following occur:

a. All culverts, road safety signs, fencing, and gates have been replaced or repaired.

b. Slopes and soils within the French Fire perimeter show signs of stabilization and have not experienced slope failure through at least one winter season and at least two major rain events.

c. Regrowth of vegetation has sufficiently obscured cultural sites previously exposed by the fire.

d. Seeding treatments on areas or natural revegetation (identified in BAER Plan for French Fire) have resulted in at least 30% regeneration of native species, or have been deemed unsuccessful after at least one full growing season.

J. Anthony Danna,
Deputy State Director, Natural Resources, California State Office.

[FR Doc. 04-23031 Filed 10-13-04; 8:45 am]

BILLING CODE 4310-40-M